DEPARTMENT OF AGRICULTURE

Agricultural Marketing Service

[Doc. Number AMS-FV-11-0054]

United States Standards for Grades of Okra

AGENCY: Agricultural Marketing Service, USDA.

ACTION: Notice.

SUMMARY: The Agricultural Marketing Service (AMS), of the United States Department of Agriculture (USDA), proposes to revise the voluntary United States Standards for Grades of Okra by removing the “Unclassified” section from the standards.

DATES: Comments must be received by May 31, 2013.

ADDRESSES: Interested persons are invited to submit written comments to the Standardization Branch, Specialty Crops Inspection Division, Fruit and Vegetable Program, AMS, USDA, National Training and Development Center, Riverside Business Park, 100 Riverside Parkway, Suite 101, Fredericksburg, VA 22406; Fax (540) 361-1199, or on the Web at: www.regulations.gov. Comments should make reference to the dates and page number of this issue of the Federal Register and will be made available for public inspection in the above office during regular business hours. Comments can also be viewed as submitted, including any personal information you provide, on the www.regulations.gov Web site.

FOR FURTHER INFORMATION CONTACT: Dave Horner, Standardization Branch, Specialty Crops Inspection Division, (540) 361-1128 or 1150. The United States Standards for Grades of Okra are available through the Specialty Crops Inspection Division Web site at http://www.ams.usda.gov/freshinspection.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices.” AMS is committed to carrying out this authority in a manner that facilitates the marketing of agricultural commodities, and makes copies of official standards available upon request. The United States Standards for Grades of Fruits and Vegetables not connected with Federal Marketing Orders or U.S. Import Requirements, no longer appear in the Code of Federal Regulations, but are maintained by USDA, AMS, Fruit and Vegetable Program, and are available on the internet at www.ams.usda.gov/freshinspection.

AMS proposes to revise the voluntary United States Standards for Grades of Okra using the procedures that appear in Part 36, Title 7 of the Code of Federal Regulations (7 CFR part 36). These standards were last revised December 18, 1928.

Background and Response to Comments

On February 9, 2012, AMS published a notice in the Federal Register (77 FR 6772), soliciting comments regarding removing the unclassified section and any other possible revision to the United States Standards for Grades of Okra. The public comment period closed on April 9, 2012, with no responses.

Based on the information gathered, AMS proposes to remove and reserve Section “51.3946 Unclassified.” AMS believes the revision will bring the okra standards in line with current marketing practices and other commodity standards. This section is being removed in standards for all commodities as they are revised. It is no longer considered necessary, since it is not a grade and only serves to show that no grade has been applied to the lot.

This notice provides for a 30 day comment period for interested parties to comment on the proposed revision in the standards. This period is deemed appropriate in order to implement this change, if it is adopted, as soon as possible to reflect current marketing practices.

Authority: 7 U.S.C. 1621-1627.

Dated: April 25, 2013.
David R. Shipman,
Administrator, Agricultural Marketing Service.

[FR Doc. 2013-10330 Filed 4-30-13; 8:45 am]

BILLING CODE 3410-02-P